CONSUMER PRODUCT SAFETY COMMISSION

[Docket No. CPSC-2012-0056]

Agency Information Collection Activities; Extension of Collection; Comment Request; Standard for Omnidirectional CB Base Antennas

AGENCY: Consumer Product Safety Commission.

ACTION: Notice of Information Collection; Request for Comment.

SUMMARY: As required by the Paperwork Reduction Act of 1995, the Consumer Product Safety Commission (CPSC or Commission) requests comments on a proposed extension of approval of information collection requirements associated with the Safety Standard for Omnidirectional Citizens Band Base Station Antennas. The Office of Management and Budget (OMB) previously approved the collection of information under control number 3041-0006. OMB's most recent extension of approval will expire on September 30, 2025. The Commission will consider all comments received in response to this notice before requesting an extension of this collection of information from OMB.

DATES: Submit comments on the collection of information by August 12, 2025.

ADDRESSES: You may submit comments, identified by Docket No. CPSC-2012-0056, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2012-0056 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Standard for Omnidirectional CB Base Antennas.

OMB Number: 3041-0006.

Type of Review: Renewal of collection.

Frequency of Response: On occasion.

Affected Public: Manufacturers, importers, and private labelers of omnidirectional citizens band base station antennas.

General Description of Collection: The Safety Standard for Omnidirectional Citizens Band Base Station Antennas (16 CFR part 1204, subpart A) establishes performance requirements for omnidirectional citizens band base station antennas to reduce unreasonable risks of death and injury that may result if an antenna contacts overhead power lines while being erected or removed from its site. Section 14 of the Consumer Product Safety Act, 15 U.S.C. 2063, and the regulations implementing the standard (16 CFR part 1204, subpart B) require manufacturers, importers, and private labelers of antennas, subject to the standard, to test the antennas for compliance with the standard, maintain records of that testing, and certify compliance with the standard.

Estimated Number of Respondents: Ten suppliers may respond to the collection annually by meeting the testing and certification requirements.

Estimated Time per Response: Staff estimates that the average annual recordkeeping burden imposed is approximately 220 hours.

Total Estimated Annual Burden: Based on ten respondents, at 220 hours per response, the total annual burden imposed by the certification regulations on manufacturers, importers and private labelers of omnidirectional citizens band base station antennas is about 2,200 hours.

The Commission staff estimates that the average hourly cost to reporting firms for the time required to perform the required testing and maintain the required records is about $74.73, based on the reported total compensation for management, professional, and related employees in goods-producing private industries. This may, however, be an overestimate because respondents to this collection may be foreign manufacturers that are compensated at a lower average wage rate. Total annual cost to the industry is approximately $164,406 ($74.73 per hour × 2,200 hours = $164,406).

Request for Comments:

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-10753 Filed 6-12-25; 8:45 am]

BILLING CODE 6355-01-P